DEPARTMENT OF STATE

[Public Notice: 10195]

The State Department's List of Entities and Subentities Associated With Cuba (Cuba Restricted List)

AGENCY: Department of State.

ACTION: Initial publication of list of entities; notice.

SUMMARY: The Department of State is publishing a List of Restricted Entities and Subentities Associated with Cuba (Cuba Restricted List) with which direct financial transactions will be generally prohibited under the Cuban Assets Control Regulations (CACR). This list will also be considered during review of license applications submitted to the Department of Commerce's Bureau of Industry and Security (BIS) pursuant to the Export Administration Regulations (EAR).

DATES: Effective on November 9, 2017.

FOR FURTHER INFORMATION CONTACT: Benjamin Barron, Office of Economic Sanctions Policy and Implementation, tel.: 202-647-7489; Robert Haas, Office of the Coordinator for Cuban Affairs, tel.: 202-647-9273, Department of State, Washington, DC 20520.

SUPPLEMENTARY INFORMATION:

Background

On June 16, 2017, the President signed the National Security Presidential Memorandum on Strengthening the Policy of the United States Toward Cuba (NSPM). As required by the NSPM, on November 9, 2017 the Department of the Treasury's Office of Foreign Assets Control (OFAC) is publishing a final rule in the Federal Register amending the CACR, 31 CFR part 515, and the Department of Commerce's Bureau of Industry and Security (BIS) is publishing a final rule in the Federal Register amending, among other sections, the section of the Export Administration Regulations (EAR) regarding Cuba, 15 CFR part 746. The regulatory amendment to the CACR adds new 515.209, which generally prohibits direct financial transactions with certain entities and subentities identified on the State Department's Cuba Restricted List, published below, and accessible on the State Department's Web site. The regulatory amendment to the EAR, specifically 746.2 notes BIS will generally deny applications to export or reexport items for use by entities or subentities identified on the Cuba Restricted List. (http://www.state.gov/e/eb/tfs/spi/cuba/cubarestrictedlist/index.htm). The State Department will update the Cuba Restricted List periodically.

The publication of the Cuba Restricted List implements the directive in paragraph 3(a)(i) of the NSPM for the Secretary of State to identify the entities or subentities, as appropriate, that are under the control of, or act for or on behalf of, the Cuban military, intelligence, or security services or personnel, and publish a list of those identified entities and subentities with which direct financial transactions would disproportionately benefit such services or personnel at the expense of the Cuban people or private enterprise in Cuba.

Electronic Availability

This document and additional information concerning the Cuba Restricted List are available from the Department of State's Web site (http://www.state.gov/e/eb/tfs/spi/cuba/).

List of Restricted Entities and Subentities Associated With Cuba as of November 9, 2017

Below is the U.S. Department of State's list of entities and subentities under the control of, or acting for or on behalf of, the Cuban military, intelligence, or security services or personnel with which direct financial transactions would disproportionately benefit such services or personnel at the expense of the Cuban people or private enterprise in Cuba. For information regarding the prohibition on direct financial transactions with these entities, please see section 515.209 of the Cuban Assets Control Regulations (31 CFR 515).

***Entities or subentities owned or controlled by another entity or subentity on this list are not treated as restricted unless also specified by name on the list.***

Ministries

MININT—Ministerio del Interior

MINFAR—Ministerio de las Fuerzas Armadas Revolucionarias

Holding Companies

GAESA—Grupo de Administración Empresarial S.A.

Gaviota—Grupo de Turismo Gaviota

Compañía Turística Habaguanex S.A.

UIM—Unión de Industria Militar

CIMEX—Corporación CIMEX S.A.

Hotels in Havana and Old Havana

Aparthotel Montehabana (Habaguanex)

Gran Hotel Manzana Kempinski (Gaviota)

H10 Habana Panorama (Gaviota)

Hostal Valencia (Habaguanex)

Hotel Ambos Mundos (Habaguanex)

Hotel Armadores de Santander (Habaguanex)

Hotel Beltrán de Santa Cruz (Habaguanex)

Hotel Conde de Villanueva (Habaguanex)

Hotel del Tejadillo (Habaguanex)

Hotel el Bosque (Habaguanex)

Hotel el Comendador (Habaguanex)

Hotel el Mesón de la Flota (Habaguanex)

Hotel Florida (Habaguanex)

Hotel Habana 612 (Habaguanex)

Hotel Kohly (Habaguanex)

Hotel Los Frailes (Habaguanex)

Hotel Marqués de Prado Ameno (Habaguanex)

Hotel Palacio del Marqués de San Felipe y

Santiago de Bejucal (Habaguanex)

Hotel Palacio O'Farrill (Habaguanex)

Hotel Park View (Habaguanex)

Hotel Raquel (Habaguanex)

Hotel San Miguel (Habaguanex)

Hotel Telégrafo (Habaguanex)

Hotel Terral (Habaguanex)

Memories Miramar Havana (Gaviota)

Memories Miramar Montehabana (Gaviota)

Hotels in Santiago de Cuba

Villa Gaviota Santiago (Gaviota)

Hotels in Varadero

Blau Marina Varadero Resort (Gaviota)

Grand Memories Varadero (Gaviota)

Iberostar Laguna Azul (Gaviota)

Iberostar Playa Alameda (Gaviota)

Meliá Marina Varadero (Gaviota)

Meliá Peninsula Varadero (Gaviota)

Memories Varadero (Gaviota)

Naviti Varadero (Gaviota)

Ocean Varadero El Patriarca (Gaviota)

Ocean Vista Azul (Gaviota)

Paradisus Princesa del Mar (Gaviota)

Paradisus Varadero (Gaviota)

Sol Sirenas Coral (Gaviota)

Hotels in Pinar del Rio

Hotel Villa Maria La Gorda y Centro Internacional de Buceo (Gaviota)

Hotel Villa Cabo de San Antonio (Gaviota)

Hotels in Baracoa

Hostal 1511 (Gaviota)

Hostal La Habanera (Gaviota)

Hostal La Rusa (Gaviota)

Hostal Rio Miel (Gaviota)

Hotel El Castillo (Gaviota)

Hotel Porto Santo (Gaviota)

Villa Maguana (Gaviota)

Hotels in Cayos de Villa Clara

Hotel Cayo Santa María (Gaviota)

Dhawa Cayo Santa María (Gaviota)

Hotel Playa Cayo Santa María (Gaviota)

Iberostar Ensenachos (Gaviota)

Meliá Buenavista (Gaviota)

Meliá Cayo Santa María (Gaviota)

Ocean Casa del Mar (Gaviota)

Memories Flamenco (Gaviota)

Meliá Las Dunas (Gaviota)

Memories Azul (Gaviota)

Memories Paraíso (Gaviota)

Royalton Cayo Santa María (Gaviota)

Sol Cayo Santa María (Gaviota)

Villa Las Brujas (Gaviota)

Warwick Cayo Santa María (Gaviota)

Hotels in Holguín

Blau Costa Verde Beach & Resort (Gaviota)

Hotel Playa Costa Verde (Gaviota)

Hotel Playa Pesquero (Gaviota)

Memories Holguín (Gaviota)

Paradisus Río de Oro Resort & Spa (Gaviota)

Playa Costa Verde (Gaviota)

Playa Pesquero Premium Service (Gaviota)

Sol Rio de Luna y Mares (Gaviota)

Villa Cayo Naranjo (Gaviota)

Villa Cayo Saetia (Gaviota)

Villa Pinares de Mayari (Gaviota)

Hotels in Jardines del Rey

Hotel Playa Coco Plus (Gaviota)

Iberostar Playa Pilar (Gaviota)

Meliá Jardines del Rey (Gaviota)

Memories Caribe (Gaviota)

Pestana Cayo Coco (Gaviota)

Hotels in Topes de Collantes

Hostal Los Helechos (Gaviota)

Los Helechos (Gaviota)

Villa Caburni (Gaviota)

Tourist Agencies

Gaviota Tours

Crucero del Sol

Marinas

Marina Gaviota Cabo de San Antonio (Pinar del Rio)

Marina Gaviota Cayo Coco (Jardines del Rey)

Marina Gaviota Las Brujas (Cayos de Villa Clara)

Marina Gaviota Puerto Vita (Holguín)

Marina Gaviota Varadero (Varadero)

Stores in Old Havana

Casa del Abanico (Habaguanex)

Colección Habana (Habaguanex)

Florería Jardín Wagner (Habaguanex)

Joyería Coral Negro (CIMEX)—Additional locations throughout Cuba

La Casa del Regalo (Habaguanex)

San Ignacio 415 (Habaguanex)

Soldadito de Plomo (Habaguanex)

Tienda El Navegante (Habaguanex)

Tienda Muñecos de Leyenda (Habaguanex)

Tienda Museo El Reloj Cuervo y Sobrinos (Habaguanex)

Entities Directly Serving the Defense and Security Sectors

CIDAI—Centro de Investigación y Desarrollo de Armamento de Infantería

MECATRONICS—Centro de Investigación y Desarrollo de Electrónica y Mecánica

SIMPRO—Centro de Investigación y Desarrollo de Simuladores

CIDAO—Centro de Investigación y Desarrollo del Armamento de Artillería e Instrumentos Ópticos y Ópticos Electrónicos

DCM TRANS—Centro de Investigación y Desarrollo del Transporte

GELCOM—Centro de Investigación y Desarrollo Grito de Baire

CID NAV—Centro de Investigación y Desarrollo Naval

TECNOPRO—Empresa Militar Industrial “G.B. Francisco Cruz Bourzac”

YABO—Empresa Militar Industrial Coronel Francisco Aguiar Rodríguez

TECNOTEX—Empresa Cubana Exportadora e Importadora de Servicios, Artículos y Productos Técnicos Especializados

XETID—Empresa de Tecnologías de la Información Para La Defensa

PLAMEC—Empresa Militar Industrial Ignacio Agramonte

Empresa Militar Industrial Astilleros Astimar

Empresa Militar Industrial Astilleros Centro

CAHOMA—Empresa Militar Industrial Comandante Ernesto Che Guevara

DEGOR—Empresa Militar Industrial Desembarco Del Granma

CORCEL—Empresa Militar Industrial Emilio Barcenas Pier

NAZCA—Empresa Militar Industrial Granma

CASEG—Empresa Militar Industrial Transporte Occidente

Empresa Militar Industrial Yuri Gagarin

UAM—Unión Agropecuaria Militar

CUBAGRO—Empresa Comercializadora y Exportadora de Productos Agropecuarios y Agroindustriales

ULAEX—Unión Latinoamericana de Explosivos

TECAL—Empresa de Tecnologías Alternativas

ACERPROT—Agencia de Certificación y Consultoría de Seguridad y Protección

ETASE—Empresa de Transporte y Aseguramiento

AGROMIN—Grupo Empresarial Agropecuario del Ministerio del Interior

SEPSA—Servicios Especializados de Protección

Ferretería TRASVAL

EMIAT—Empresa Importadora Exportadora de Abastecimientos Técnicos

APCI—Agencia de Protección Contra Incendios

Impresos de Seguridad

PNR—Policía Nacional Revolucionaria

DSE—Departamento de Seguridad del Estado

TGF—Tropas de Guardafronteras

OIBS—Organización Integración para el Bienestar Social

PROVARI—Empresa de Producciones Varias

DATYS—Empresa Para El Desarrollo De Aplicaciones, Tecnologías Y Sistemas

Additional Subentities of CIMEX

Publicitaria Imagen (Advertising)

Cachito (Beverage Manufacturer)

Jupiña (Beverage Manufacturer)

Najita (Beverage Manufacturer)

Tropicola (Beverage Manufacturer)

ECUSE—Empresa Cubana de Servicios

Contex (Fashion)

La Maisón (Fashion)

Zona Especializada de Logística y Comercio (ZELCOM)

ADESA/ASAT—Agencia Servicios Aduanales (Customs Services)

Inmobiliaria CIMEX (Real Estate)

Inversiones CIMEX

Ron Caney (Rum Production)

Ron Varadero (Rum Production)

Telecable (Satellite Television)

Datacimex

Additional Subentities of GAESA

GRAFOS (Advertising)

Empresa Inmobiliaria Almest (Real Estate)

Sociedad Mercantin Inmobiliaria Caribe (Real Estate)

RAFIN S.A. (Financial Services)

TECNOIMPORT

UCM—Unión de Construcciones Militares

ANTEX—Corporación Antillana Exportadora

Almacenes Universales (AUSA)

Dirección Integrada Proyecto Mariel (DIP)

Terminal de Contenedores de Mariel, S.A.

Terminal de Contenedores de la Habana (TCH)

Zona Especial de Desarrollo Mariel (ZEDM)

Zona Especial de Desarrollo y Actividades Logísticas (ZEDAL)

Additional Subentities of Gaviota

AT Comercial

PhotoService

Producciones TRIMAGEN S.A. (Tiendas Trimagen)

Manzana de Gomez (Shopping Mall)

Additional Subentities of Habaguanex

Sociedad Mercantil Cubana Inmobiliaria Fenix S.A. (Real Estate)

Dated: November 2, 2017.
Brian McFeeters,
Acting Assistant Secretary, Bureau of Economic and Business Affairs, Department of State.

[FR Doc. 2017-24449 Filed 11-8-17; 8:45 am]

BILLING CODE 4710-AE-P